ENVIRONMENTAL PROTECTION AGENCY

[FRL-8016-3]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 0982.08; NSPS for Metallic Mineral Processing Plants (Renewal); in 40 CFR part 60, subpart LL; was approved 11/04/2005; OMB Number 2060-0016; expires 11/30/2008.

EPA ICR No. 0318.10; Clean Watersheds Needs Survey (Renewal); was approved 11/08/2005; OMB Number 2040-0050; expires 11/30/2008.

EPA ICR No. 1878.02; Minimum Monitoring Requirements for Direct and Indirect Discharging Mills in the Bleached Papergrade Kraft and Soda Subcategory and the Papergrade Sulfite Subcategory of the Point Source (Renewal); in 40 CFR 430.02(a-e), 122.41(j)(2), 122.41(l)(4), 122.44(i)(2), 403.8(f), 403.12(b), (d-e), (g), 123.26(a)(e); was approved 11/14/2005; OMB Number 2040-0243; expires 11/30/2008.

EPA ICR No. 1054.09; NSPS for Petroleum Refineries (Renewal); in 40 CFR part 60, subpart J; was approved 11/14/2005; OMB Number 2060-0022; expires 11/30/2008.

EPA ICR No. 1854.04; The Consolidated Federal Air Rule for SOCMI (Renewal); in 40 CFR part 60, subparts Ka, Kb, VV, DDD, III, NNN, and RRR; 40 CFR part 61, subparts BB, Y, and V; 40 CFR part 63, subparts F, G, H, and I; 40 CFR part 65; was approved 11/15/2008; OMB Number 2060-0443; expires 11/30/2008.

EPA ICR No. 2179.03; Recordkeeping and Periodic Reporting of the Production, Import, Recycling, Transshipment and Feedstock Use of Ozone Depleting Substances (Final Rule for the Critical Use Exemption); in 40 CFR part 82, subparts A and E; Section 83.13; was approved 11/22/2005; OMB Number 2060-0564; expires 11/30/2008.

EPA ICR No. 1131.08; NSPS for Glass Manufacturing Plants; in 40 CFR part 60, subpart CC (Renewal); was approved 11/28/2005; OMB Number 2060-0054; expires 11/30/2008.

EPA ICR No. 1362.07; NESHAP for Coke Oven Batteries (Final Rule); in 40 CFR part 63, subpart L; was approved 06/30/2005; OMB Number 2060-0253; expires 12/31/2005.

EPA ICR No. 2068.02; The National Primary Drinking Water Regulations; Stage 2 Disinfectants and Disinfection Byproducts Rule (Final Rule); in 40 CFR 141.126, 40 CFR 141.630, 40 CFR 142.12-142.16; was approved 12/06/2005; OMB Number 2040-0265; expires 12/31/2008.

EPA ICR No. 0370.20; Information Collection Request for the Revision to Federal UIC Requirements for Class I Municipal Wells in Florida (Final Rule); in 40 CFR parts 144-148; was approved 12/06/2005; OMB Number 2040-0042; expires 04/30/2007.

Dated: December 14, 2005.
Oscar Morales,
Director, Collection Strategies Division.

[FR Doc. E5-8038 Filed 12-28-05; 8:45 am]

BILLING CODE 6560-50-P